COMMITTEE FOR PURCHASE FROM PEOPLE WHO ARE BLIND OR SEVERELY DISABLED

Procurement List Proposed Addition Corrections

In the document appearing on page 51006, FR Doc. 01-25043, in the issue of October 5, 2001, in the first column the Committee published a notice of addition to the Procurement List of, among other things, EcoLab Water Soluble Cleaners/Detergents, National Stock Number (NSN) 7930-01-380-6404. This notice is amended to correct the NSN to 7930-01-380-8404.

In the document appearing on page 55635, FR Doc. 01-27570, in the issue of November 2, 2001, in the second column the Committee published a notice of proposed addition to the Procurement List of, among other things, Compact Disc Duplication and Printing, U.S. Department of Agriculture, Beltsville, Maryland. This notice is amended to read Compact Disc Duplication and Printing, USDA/Food Safety Inspection Services, Beltsville, Maryland.

Sheryl D. Kennerly,
Director, Information Management.

[FR Doc. 01-28750 Filed 11-15-01; 8:45 am]

BILLING CODE 6353-01-P